DEPARTMENT OF TRANSPORTATION

Federal Aviation Administration

Approval of Noise Compatibility Program Update; Westfield-Barnes Regional Airport (BAF), Westfield, Massachusetts

AGENCY: Federal Aviation Administration, DOT.

ACTION: Notice.

SUMMARY: The Federal Aviation Administration (FAA) announces its findings on the Noise Compatibility Program (NCP) Update submitted by the City of Westfield, Massachusetts, through its Aviation Department, for Westfield-Barnes Regional Airport. The Final Noise Compatibility Program (NCP) was submitted to FAA for review and approval on May 26, 2023. The NCP was found to be sufficient for consideration by the FAA, and a Federal Register noticed appeared on July 11, 2023. The required 60-day public comment period expired on September 9, 2023. The NEM was previously determined to be in compliance on June 13, 2019, and is still valid. The NCP contained 10 noise abatement measures, nine land use measures, and four program management measures. Of the 23 measures proposed, 12 were approved, 9 were approved as voluntary, one requires no action at this time, and one was disapproved for purposes of part 150.

DATES: The applicable start date of the FAA's approval is December 14, 2023.

FOR FURTHER INFORMATION CONTACT: Cheryl Quaine, Federal Aviation Administration, New England Regional Office Environmental Protection Specialist, Airports Division, Federal Aviation Administration, 1200 District Avenue, Burlington, Massachusetts 01803. Phone number: 781-238-7613.

SUPPLEMENTARY INFORMATION: This notice announces that the FAA's approval of the NCP Update for the Westfield-Barnes Regional Airport. Per United States Code section 47504 (49 U.S.C. 47504) and Title 14, Code of Federal Regulations (CFR) part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airport sponsor's recommendations in their noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of FAA's approval of NCPs are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the noise compatibility program nor a determination that all measures covered by the NCP are eligible for grant-in-aid funding from the FAA. Where federal funding is sought, requests must be submitted to the FAA New England Regional Office at 1200 District Ave., Burlington, MA 01803.

The City of Westfield submitted the noise exposure maps, descriptions, and other documentation produced during the noise compatibility planning study to the FAA and the FAA determined that the NEMs for BAF were in compliance with applicable requirements under 14 CFR 150, effective June 3, 2019 (Noise Exposure Map Notice; Westfield-Barnes Regional Airport, Westfield, Massachusetts, volume 84, Federal Register, pages 35177-8, July 22, 2019). The airport operator requested that the FAA review the submitted material and that the noise mitigation measures, to be implemented jointly by the airport and surrounding communities, be approved as an NCP. The formal review period, limited by law to a maximum of 180 days, was initiated on May 26, 2023. Notice of the intent to review the NCP was published in the Federal Register on July 11, 2023 (Notice of Receipt of Noise Compatibility Program Update and Request for Review, volume 88, Federal Register, pages 44182-3, July 11, 2023). The Federal Register Notice also announced the start of a 60- day period of public review for the NCP documentation. The FAA received no comments during the public review.

It was requested that the FAA evaluate and approve this material as a noise compatibility program as described in 49 U.S.C. 47504. The FAA began its review and was required by a provision of 49 U.S.C. 47504 to approve or disapprove the program within 180 days, other than the use of new or modified flight procedures for noise control. The submitted program contained 23 proposed measures to minimize impacts of aviation noise on and off the airport. The FAA completed its review and determined that the procedural and substantive requirements of the 49 U.S.C. 47504 and 14 CFR part 150 were satisfied. A Record of Approval for the overall program was issued by the FAA effective December 14, 2023.

The specific program elements and their individual determinations are as follows:

NA-1—Maintain Runway Heading to East Mountain Ridge after Departing Runway 15. Approved as voluntary.

NA-2—Prohibit the Use of Intersection Departures on Runway 33. Approved as voluntary.

NA-3—Turn to 360-degrees Heading after Departing Runway 02. No action at this time.

NA-4—Barnes ANG Preferential Runway Use Program. Approved as voluntary.

NA-5: Barnes ANG Fighter Aircraft “High Initial” Approach Procedures. Disapproved for Purposes of Part 150.

NA-6: Barnes ANG Noise Abatement Departure Procedures. Approved as voluntary.

NA-7: Helicopter Noise Abatement Approach Procedures to Runway 02. Approved as voluntary.

NA-8: Helicopter Noise Abatement Departure Procedures from Runway 02. Approved as voluntary.

NA-9: Helicopter Noise Abatement Approach Procedures to Runways 15 and 33. Approved as voluntary.

NA-10: Helicopter Noise Abatement Departure Procedures to Runways 15 and 33. Approved as voluntary.

LU-1: Sound Insulate Noise-Sensitive Structures. Approved.

LU-2: Acquire Non-Compatible Residential Property. Approved.

LU-3: Acquire Avigation Easements. Approved.

LU-4: Modify Local Land Use Zoning. Approved.

LU-5: Modify Local Subdivision Regulations. Approved.

LU-6: Review Proposed Land Use Development within the 65 dB DNL Contour and Higher Contours. Approved.

LU-7: Voluntary Acquisition of Undeveloped Land. Approved.

LU-8: Real Estate Disclosure. Approved.

LU-9: Acquire the Arbor Mobile Home Park. Approved.

PM-1: Re-establish and Maintain a Noise Mitigation Advisory Committee. Approved.

PM-2: Continue the Community Awareness Program. Approved.

PM-3: Expand the Fly Quiet Program. Approved as Voluntary.

PM-4: Periodically Evaluate Noise Exposure. Approved.

These determinations are set forth in detail in the Record of Approval signed by the FAA Airports New England Deputy Director on December 14, 2023. The Record of Approval, as well as other evaluation materials and the documents comprising the submittal, are available for review at the FAA office listed above. The Record of Approval will also be available on the internet on the FAA's website at http://www.faa.gov/airports/environmental/airport_noise/part_150/states/ and the City of Westfield Airport's website at www.barnesairport.com.

Issued in New England Regional Office, Burlington, MA, on December 14, 2023.
Julie Seltsam-Wilps,
Deputy Director, ANE-600.

[FR Doc. 2023-28148 Filed 12-20-23; 8:45 am]

BILLING CODE 4910-13-P